DEPARTMENT OF COMMERCE

Submission for OMB Review; Comment Request

The Department of Commerce will submit to the Office of Management and Budget (OMB) for clearance the following proposal for collection of information under the provisions of the Paperwork Reduction Act (44 U.S.C. Chapter 35).

Agency: National Institute of Standards and Technology, Commerce.

Title: Small Business Innovation Research (SBIR) Program Application Cover Sheet.

OMB Control Number: 0693-0072.

Form Number(s): None.

Type of Request: Extension of a current information collection.

Number of Respondents: 150.

Average Hours Per Response: 30 minutes.

Burden Hours: 75 hours.

Needs and Uses: The information collected in the Cover Sheet provides identifying information and demographic data for use in NIST's annual report to the SBA on the program. The technical abstract is used in prevention of fraud, waste, and abuse by providing a method to compare similar applications to other agency SBIR programs. The abstract and potential commercial applications of successful applicants are posted on the agency Web site.

Affected Public: Business or other for-profit.

Frequency: Annual.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-21083 Filed 9-29-17; 8:45 am]

BILLING CODE 3510-13-P